DEPARTMENT OF DEFENSE

Department of the Army, Corps of Engineers

Notice of Intent To Prepare a Draft Environmental Impact Statement for the Pearl River Flood Risk Management Project, Pearl River Watershed, Rankin and Hinds Counties, Mississippi

AGENCY: U.S. Army Corps of Engineers, Department of the Army, DoD.

ACTION: Notice of intent to prepare a draft environmental impact statement for the Pearl River Flood Risk Management Project, Pearl River Watershed, Rankin and Hinds Counties, Mississippi.

SUMMARY: The U.S. Army Corps of Engineers (USACE) intends to prepare a draft environmental impact statement (DEIS) for the Pearl River Flood Risk Management Project in Rankin and Hinds Counties, Mississippi to analyze flood risk management plans that can be implemented under section 3104 of the Water Resources Development Act (WRDA) of 2007. This notice updates the original Notice of Intent declaring the Rankin-Hinds Pearl River Flood and Drainage Control District, the non-Federal interest (NFI) and USACE's intent to conduct a Feasibility Study and EIS process, which was published in the Federal Register on July 25, 2013. USACE is now preparing a DEIS to identify the national economic development (NED) plan by comparing the level of flood protection provided by the alternatives presented in the NFI's section 211 Study (Alternatives A and C) and two new USACE alternatives (Alternative A1 and Combination/Hybrid Plan, as allowed for by section 3104); assess the environmental acceptability and technical feasibility of the alternatives; and provide the Secretary the necessary information to choose a plan to implement. Additionally, consistent with section 1176 of WRDA 2018, the DEIS will assess potential downstream impacts to the Pearl River Basin.

DATES: All comments and suggestions must be submitted by June 20, 2023.

ADDRESSES: To ensure the Corps has sufficient time to consider public input in the preparation of the Draft EIS, scoping comments should be submitted by email at PearlRiverFRM@usace.army.mil, by surface mail to U.S. Army Corps of Engineers, CEMVK-PMP, 4155 Clay Street, Vicksburg, Mississippi 39183-3435, or at the Scoping Meeting(s).

FOR FURTHER INFORMATION CONTACT: Questions and comments regarding the proposed project should reference “the Pearl River Flood Risk Management Project” and be directed to Eric Williams at eric.m.williams@usace.army.mil or (504) 862-2862.

SUPPLEMENTARY INFORMATION:

Background: Section 3104 of WRDA 2007 modified the “Pearl River Basin Project” originally authorized by section 401(e)(3) of WRDA 1986 to authorize the Secretary to “construct the project generally in accordance with the plan described in the `Pearl River Watershed, Mississippi, Feasibility Study Main Report, Preliminary Draft', dated February 2007” subject to subsection (c). Section 3104(c) provides that “[i]f the Secretary determines under subsection (b) that the locally preferred plan provides a level of flood damage reduction that is equal to or greater than the level of flood damage reduction provided by the national economic development plan and that the locally preferred plan is environmentally acceptable and technically feasible, the Secretary may construct the project identified as the national economic development plan, or the locally preferred plan, or some combination thereof.”

The NFI prepared a draft feasibility study/environmental impact statement (Study) under section 211 of the Water Resources Development Act (WRDA) of 1996 and submitted it to the Office of the Assistant Secretary of the Army for Civil Works (OASA(CW)) in July 2022 for review. Since then, OASA(CW) and USACE have been working with the NFI on resolving identified issues with the NFI section 211 Study.

For the past 100 years, headwater flooding of the Pearl River has caused disruption to citizens and businesses throughout the Jackson, Mississippi, metropolitan area, putting over 5,000 commercial and residential structures at risk of flood damage. Five of the highest river stages on record have occurred in the past 20 years. The greatest flood risk is borne by minority and low-income communities. Jackson has struggled with population loss and lost economic opportunity.

In 1996, local interests proposed the LeFleur Lakes Flood Control Plan, consisting of upper and lower lakes along the Pearl River south of the Ross Barnett Reservoir as an alternative to the comprehensive levee plan consisting of new levees, levee enlargements, water control structures, and culverts. USACE later prepared a preliminary feasibility study and draft environmental impact statement (FS/DEIS) evaluating the local interest plan and the comprehensive levee plan, dated February 2007, which was not noticed in the Federal Register, but is referenced in the current DEIS. The levee plan was determined to be non-implementable.

In March of 2012, the NFI prepared a Preliminary Hydraulic and Hydrologic Report for a channel improvement concept along with some initial inquiries of a locally preferred plan with a smaller footprint. The flood risk management effort was continued in 2013 when the NFI team began rescoping the project with input from USACE, input from additional agencies and the public, and a review of previous alternatives. To efficiently and effectively consider as many measures as possible, the previous reports were utilized where possible, reevaluating the flood risk management measures studied and considering over 60 plans previously studied. During the review of plans examined in prior reports, plans were updated in some cases with current cost estimates; in other cases, plans were updated with continued modeling for updated and thorough analysis. Using this information, the USACE is conducting a reanalysis of engineering, economic, and environmental factors relative to prospective flood alleviation measures in the Pearl River Watershed study area (Metropolitan Jackson area) for Alternatives A, A1, C, and a Combination/Hybrid Plan by employing Department of the Army criteria and guidelines. The DEIS will examine the reasonably foreseeable environmental impacts of all reasonable alternatives that may be proposed.

Proposed Action: The purpose of the proposed action is to reduce flood risk in the Jackson metropolitan area; reduce the flood risk of critical infrastructure, including the Savanna Street Wastewater Treatment Facility; and to improve access to transportation routes, evacuation routes, and critical care facilities during flood events. For the past 100 years, headwater flooding of the Pearl River (greater than 10 feet deep in some areas) has caused disruption to businesses and industry throughout the Jackson, MS, metropolitan area. This area of increased flood risk includes 5,000 commercial and residential structures and effects a population of over 500,000. There have been numerous flood events that have affected the Study Area, most notably the Easter Flood of 1979 and the May Flood of 1983. Most recently, the Pearl River crested at 36.67 feet in Jackson on February 17, 2020, the third highest crest ever recorded.

Alternatives: Alternatives being considered include the following. Alternative A consists of relocating structures (buy out) and buying the land upon which the structures were located. The total number of structures to be relocated in this alternative is more than 3,000, including residential structures, commercial structures, government and public buildings, schools, and hospitals. Alternative A1 will be for both residential and nonresidential structures receiving residual damages in the base year with the project in place. Nonstructural measures of acquisition, elevation, and floodproofing may be applied to several with-project floodplains and will be optimized by reach to the annual exceedance probability (AEP) event floodplain providing the highest net benefits. Alternative C consists of the construction of channel improvements, demolition of the existing weir near the J. H. Fewell Water Treatment Plant (WTP) site and construction of a new weir with a low-flow gate structure further downstream to enlarge the existing river channel, Federal levee improvements (excavated material plan), and upgrading an existing non-Federal levee into a federalized ring levee around the Savannah Street WWTP. The NFI's preferred alternative is a Channel Improvements Plan, Alternative C. Consideration of an alternative that is a combination, or hybrid, of these plans is authorized. The Combination/Hybrid Plan may consist of features that demonstrate effectiveness and efficiency in Alternatives A, A1, and C. Through this Notice, the public is invited to identify potential alternatives, information, and analyses relevant to the proposed action.

Summary of Expected Effects: It is anticipated that Alternatives A and A1 would have minimal impacts on natural resources but could have significant effects to the human environment. These alternatives propose the buyout of up to approximately 3,100 structures, including homes and businesses. Implementation of Alternative A or A1 would impact population and housing, employment and business activity, tax revenues, community cohesiveness and growth.

Alternative C's environmental effects will be further determined during the upcoming analyses. Based on the information available now approximately 2,069 acres of terrestrial habitat would be converted to aquatic habitat. Approximately 1,861 acres of wetlands and “other waters of the U.S.” and approximately 487 acres of existing surface water bodies, including the Pearl River channel and its tributaries, would be impacted. Additionally, impacts on threatened and endangered species by converting the portion of the Pearl River within the project area from a riverine system to a lake system will be further reviewed. Water quality and quantity impacts downstream of the project area will also be reviewed pursuant to Section 1176.

Environmental Reviews and Consultation Requirements: The alternatives are being coordinated with federal, state, regional, and local agencies. In accordance with relevant environmental laws and regulations, USACE will engage at least the following agencies, some of which may also serve as cooperating or participating agencies in the EIS preparation: U. S. Fish and Wildlife Service (USFWS) under the Fish and Wildlife Coordination Act; USFWS under the Endangered Species Act; U.S. Environmental Protection Agency and the Mississippi Department of Environment Quality under the Clean Air Act and the Clean Water Act; Mississippi Department of Wildlife Fisheries and Parks, Mississippi Department of Marine Resources, Mississippi Department of Archives and History, Louisiana Department of Environmental Quality, Louisiana Department of Natural Resources, Louisiana Department of Wildlife and Fisheries, Louisiana Coastal Protection and Restoration Authority, and the Advisory Council on Historic Preservation and Federally-recognized Indian Tribes under the National Historic Preservation Act.

NEPA Schedule: The draft EIS is presently scheduled to be available for public review and comment in September 2023. A 45-day public review period will be provided for interested parties and agencies to review and comment on this draft document. All interested parties are encouraged to respond to this notice and provide a current address if they wish to be notified of the Draft EIS circulation. A Record of Decision would be approved and signed no earlier than 30 days after the final EIS is published.

Public Involvement and Scoping: USACE invites all affected federal, state, and local agencies, affected Federally-recognized Indian Tribes, other interested parties, and the general public to participate in the National Environmental Policy Act (NEPA) process during development of the DEIS. Besides providing information, this notice requests input on alternatives and issues of concern.

To ensure that public comments are considered in the DEIS preparation process, members of the public, interested persons and entities must submit their comments to USACE by mail, email, or at the Scoping Meeting(s). All comments and suggestions must be submitted by June 20, 2023. All personally identifiable information (for example, name, address, etc.) voluntarily submitted by a commenter may be publicly accessible. Do not submit confidential business information or otherwise sensitive or protected information.

Scoping meeting(s) will be held at various locations (Slidell, Louisiana, and Jackson, Mississippi) during the scoping period which extends to June 20, 2023, to present information and receive comments from the public. Notification of the meeting(s) will be publicly announced in advance by USACE through press releases, special public notices, USACE social media platforms, and the project website http://www.mvk.usace.army.mil/Missions/Programs-and-Project-Management/Project-Management/Pearl-River/.

James A. Bodron,
Programs Director, Mississippi Valley Division.

[FR Doc. 2023-10599 Filed 5-17-23; 8:45 am]

BILLING CODE 3720-58-P